DEPARTMENT OF COMMERCE

Foreign-Trade Zones Board

[B-39-2023]

Foreign-Trade Zone (FTZ) 121, Notification of Proposed Production Activity; GE Vernova Operations, LLC; (Turbines and Generators); Schenectady, New York

GE Vernova Operations, LLC submitted a notification of proposed production activity to the FTZ Board (the Board) for its facility in Schenectady, New York within FTZ 121. The notification conforming to the requirements of the Board's regulations (15 CFR 400.22) was received on June 8, 2023.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include: steam turbines; assemblies (steam turbine rotor; spindle; turbine blade; non-aircraft gas turbine; nacelle); wind turbine blades and hubs; valve type injectors; drive trains; turbine generators (gas; steam); stators and rotors; electrical connectors; motor starters; and, motor overload protectors (duty rate ranges from duty-free to 6.7%; 25¢ each + 3.9%).

The proposed foreign-status materials and components include: lubrication grease; acetone; petroleum oil; joint compound; stainless steel components (rivets; fittings; fasteners; cables; ladders; screws; pins; bolts; nuts; rods; washers; rings; dowels); electrical components (connectors; couplings; terminals; relays; switch limits); light-emitting diode lights; acrylic paints and varnishes; silicone and mastic; surface cleaning wipes; lubricants; adhesives and sealants; lubricant additives; anti-freeze coolants; polyvinyl chloride components (flexible trim; fittings); plastic components (pipe; hosing; plugs; shipping covers); anti-slip mat; tapes (electrical; adhesive; temperature resistant); labels (adhesive; magnetic; paper); nylon components (cable ties; connectors; trim; mounts; clamps; washers; pressure sleeves); rubber components (seals; hose kits; cable protectors; mats; O-rings; gaskets; grommets); generator mounts; wood components (plates; shipping enclosures; steps; walkways); rope; flexible textile hose pipe; sandpaper; steel components (catwalks; walkways; brackets; columns; stiffeners; deflectors; support beams; spacers; trusses; platforms; screws; anchors; bolts; fasteners; wire; clamps; nuts; shims; mesh; supports; bushings; flanges; plates; hinges; latches; sign plates); copper components (fittings; wire; rails; conductors); aluminum components (catwalks; walkways; escape hatches; plates; clamps; brackets; ladders); hand tools; locks; friction system assemblies; turbine parts; cooling system pump units; grease pumps; fans and fan assemblies; passive cooling systems (heat exchanger; manifold); gas separation screens; cranes; pitch bearings, retractors, and drives; grease distributors; roller bearings; transmission cranks and shafts; pillow block bearings; gearboxes; universal joints; parts of gearboxes, transmissions, bearing housings, and shaft bearings; lubrication seals; multi-phase AC motors and motor assemblies; AC generators; generator parts; transformers; power supplies and converters; static converter plates; magnets; heater assemblies; modems and modem assemblies; keypad alarms; temperature cable harnesses; circuit breakers; surge protectors; terminals; programmable controllers; switchgear assemblies and switchboards; switchgear and switchboard rails and covers; alarms and sensors; cable harnesses, electrical cables, patches, and connectors; fiber optic cables; carbon brushes; ceramic electrical insulators; plastic insulating fittings and reducers; anemometers; speed sensor parts; accelerometer parts; and, brushes with polyester bristles (duty free to 8.5%; 1.3¢/kg + 5.7%; 84¢/bbl.; 25¢ each + 3.9%). The request indicates that certain materials/components are subject to duties under section 301 of the Trade Act of 1974 (section 301), depending on the country of origin. The applicable section 301 decisions require subject merchandise to be admitted to FTZs in privileged foreign status (19 CFR 146.41).

Public comment is invited from interested parties. Submissions shall be addressed to the Board's Executive Secretary and sent to: ftz@trade.gov. The closing period for their receipt is July 26, 2023.

A copy of the notification will be available for public inspection in the “Online FTZ Information System” section of the Board's website.

For further information, contact Juanita Chen at juanita.chen@trade.gov.

Dated: June 13, 2023.
Elizabeth Whiteman,
Executive Secretary.

[FR Doc. 2023-12965 Filed 6-15-23; 8:45 am]

BILLING CODE 3510-DS-P